DEPARTMENT OF THE INTERIOR

National Park Service

[N6907; NPS-WASO-NAGPRA-NPS0041937; PPWOCRADN0-PCU00RP14.R50000]

Notice of Inventory Completion: New York State Museum, Albany, NY

AGENCY: National Park Service, Interior.

ACTION: Notice.

SUMMARY: In accordance with the Native American Graves Protection and Repatriation Act (NAGPRA), the New York State Museum (NYSM) has completed an inventory of human remains and has determined that there is a cultural affiliation between the human remains and Indian Tribes or Native Hawaiian organizations in this notice.

DATES: Repatriation of the human remains in this notice may occur on or after March 4, 2026.

ADDRESSES: Send written requests for repatriation of the human remains in this notice to Lisa Anderson, New York State Museum, 3049 Cultural Education Center, Albany, NY 12230, email lisa.anderson@nysed.gov.

SUPPLEMENTARY INFORMATION: This notice is published as part of the National Park Service's administrative responsibilities under NAGPRA. The determinations in this notice are the sole responsibility of the New York State Museum, and additional information on the determinations in this notice, including the results of consultation, can be found in its inventory or related records. The National Park Service is not responsible for the determinations in this notice.

Abstract of Information Available

Human remains representing, at least, one individual have been identified. No associated funerary objects are present. At an unknown date prior to 1990, NYSM received human remains believed to be from a locality in Saratoga County, NY. No information is available on the donor or date of acquisition. No information is available regarding the use of hazardous substances.

Human remains representing, at least, four individuals have been identified. No associated funerary objects are present. In 1996 and 2000, human remains were transferred to NYSM from the estate of Mr. William Winne of Niskayuna, NY. No information is available on how Mr. Winne obtained the human remains but archaeological collections in his possession also included cultural items from the Lewandowski site in Saratoga County, NY. No information is available regarding the use of hazardous substances.

Cultural Affiliation

Based on the information available and the results of consultation, cultural affiliation is reasonably identified by the geographical location or acquisition history of the human remains described in this notice.

Determinations

The New York State Museum has determined that:

• The human remains described in this notice represent the physical remains of five individuals of Native American ancestry.

• There is a connection between the human remains described in this notice and the Stockbridge Munsee Community, Wisconsin.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after March 4, 2026. If competing requests for repatriation are received, the New York State Museum must determine the most appropriate requestor prior to repatriation. Requests for joint repatriation of the human remains are considered a single request and not competing requests. The New York State Museum is responsible for sending a copy of this notice to the Indian Tribes and Native Hawaiian organizations identified in this notice and any other consulting parties.

Authority: Native American Graves Protection and Repatriation Act, 25 U.S.C. 3003, and the implementing regulations, 43 CFR 10.10.

Dated: January 22, 2026.
Melanie O'Brien,
Manager, National NAGPRA Program.

[FR Doc. 2026-02022 Filed 1-30-26; 8:45 am]

BILLING CODE 4312-52-P